DEPARTMENT OF ENERGY

Federal Energy Regulatory Commission

[Docket No. RP02-132-004]

Viking Gas Transmission Company; Notice of Compliance Filing

November 21, 2002.

Take notice that on November 18, 2002 Viking Gas Transmission Company (Viking) tendered for filing as part of its FERC Gas Tariff, First Revised Volume No. 1, the tariff sheets listed on Appendix A to the filing to become effective July 1, 2002 and the tariff sheets listed on Appendix B to the filing to become effective October 1, 2002 subject to the conditions set forth in Viking's filing.

Viking states that the purpose of this filing is to comply with the November 8, 2002 Letter Order issued in Docket No. RP02-132-000.

Viking states that copies of this filing have been served on all parties designated on the official service list in this proceeding, on all Viking's jurisdictional customers and to affected state regulatory commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's web site under the “e-Filing” link.

Linwood A. Watson, Jr.,
Deputy Secretary.

[FR Doc. 02-30211 Filed 11-26-02; 8:45 am]

BILLING CODE 6717-01-P